ENVIRONMENTAL PROTECTION AGENCY

[FRL 6525-7]

Agency Information Collection Activities: Submission for OMB Review; Comment Request, Standards of Performance of Volatile Organic Compound Emissions from the Synthetic Organic Chemical Manufacturing Industry Reactor Processes

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS Subpart RRR, SOCMI Reactor Processes, EPA ICR Number 1178.05 and OMB Control Number 2060-0269; expires March 31, 2000. The ICR describes the nature of the information collection and its expected burden and cost; where appropriate, it includes the actual data collection instrument.

DATES: Comments must be submitted on or before February 17, 2000.

FOR FURTHER INFORMATION CONTACT: For a copy of the ICR contact Sandy Farmer at EPA by phone at (202) 260-2740, by E-Mail at Farmer.Sandy@epamail.epa.gov or download off the Internet at http://www.epa.gov/icr and refer to EPA ICR No. 1178.05. For technical questions about the ICR, contact Darlene M. Williams at 202-564-7031.

SUPPLEMENTARY INFORMATION: Title: Standards of Performance of Volatile Organic Compound (VOC) Emissions from the Synthetic Organic Chemical Manufacturing Industry (SOCMI), Reactor Processes, Subpart RRR; OMB Control No. 2060-0269; EPA ICR No. 1178.05, expiring 3/31/2000. This is a request for extension of a currently approved collection.

Abstract: This ICR contains recordkeeping and reporting requirements that are mandatory for compliance with 40 CFR 6.700, subpart RRR, Standards of Performance for VOC Emissions from SOCMI Reactor Processes. This information is used by the Agency to identify sources subject to the standards and to insure that the best demonstrated technology is being properly applied. The standards require periodic recordkeeping to document process information relating to the sources' ability to meet the requirements of the standard and to note the operation conditions under which compliance was achieved. These standards rely on the reduction of VOC emissions by installation of controls. The required notifications are used to inform the Agency or delegated authority when a source becomes subject to the standard. The reviewing authority may then inspect the source to check if the pollution control devices are properly installed and operated and the standard is being met. Performance test reports are needed as these are the Agency's record of a source's initial capability to comply with the emission standard, and serve as a record of the operating conditions under which compliance was achieved. The semiannual reports are used for problem identification, as a check on source operation and maintenance, and for compliance determinations.

The EPA is charged under section 111 of the Clean Air Act, as amended, to establish standards of performance for new stationary sources that reflect: * * * application of the best technological system of continuous emissions reduction which (taking into consideration the cost of achieving such emissions reduction, or any non-air quality health and environmental impact and energy requirements) the Administrator determines has been adequately demonstrated (section 111(a)(1)).

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on June 4, 1999 (64 FR 30011); no comments were received.

Burden Statement: The annual public reporting and recordkeeping burden for this collection of information is estimated to average 47 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Synthetic Organic Chemical Manufacturing Industry.

Estimated Number of Respondents: 285.

Frequency of Response: Semiannual and initial.

Estimated Total Annual Hour Burden: 30,842.

Estimated Total Annualized Capital, O&M Cost Burden: $1,147,000.

Send comments on the Agency's need for this information, the accuracy of the provided burden estimates, and any suggested methods for minimizing respondent burden, including through the use of automated collection techniques to the following addresses. Please refer to EPA ICR No. 1178.05 and OMB Control No. 2060-0269 in any correspondence.

Ms. Sandy Farmer, U.S. Environmental Protection Agency, Office of Environmental Information, Collection Strategies Division (2822), 1200 Pennsylvania Ave., NW, Washington, DC 20460;

and

Office of Information and Regulatory Affairs, Office of Management and Budget, Attention: Desk Officer for EPA, 725 17th Street, NW, Washington, DC 20503.

Dated: January 11, 2000.
Oscar Morales,
Director, Collection Strategies Division.

[FR Doc. 00-1062 Filed 1-14-00 8:45 am]

BILLING CODE 6560-50-P